DEPARTMENT OF HEALTH AND HUMAN SERVICES

National Institutes of Health

National Institute of Diabetes and Digestive and Kidney Diseases; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Diabetes and Digestive and Kidney Diseases Special Emphasis Panel, ZDK1- GRB-7 M2.

Date: April 11-13, 2000.

Time: 7:30 p.m. to 12 p.m.

Agenda: To review and evaluate grant applications.

Place: The Mayflower Hotel on the Park, 15 Central Park West, New York, NY 10023770.

Contact Person: Lakshmanan Sankaran, Scientific Review Administrator, Review Branch, DEA, NIDDK, Natcher Building Room 6AS25F, National Institutes of Health, Bethesda, MD 20892-6600, (301) 594-7799.

This notice is being published less than 15 days prior to the meeting due to the timing limitations imposed by the review and funding cycle.

Name of Committee: National Institute of Diabetes and Digestive and Kidney Diseases Special Emphasis Panel, ZDK1 GRB-6 M1 P.

Date: April 19-21, 2000.

Time: 7:30 p.m. to 10 a.m.

Agenda: To review and evaluate grant applications.

Place: Crowne Plaza at Dallas Market Center, 7050 Stemmons Freeway, Dallas, TX 75247.

Contact Person: Neal A. Musto, Scientific Review Administrator Review Branch, DEA, NIDDK, Natcher Building Room 6AS-37A, National Institutes of Health, Bethesda, MD 20892-6600, (301) 594-7798.

Name of Committee: National Institute of Diabetes and Digestive and Kidney Diseases Special Emphasis Panel.

Date: April 30-May 2, 2000.

Time: 7:30 pm to 12 pm.

Agenda: To review and evaluate grant applications.

Place: The Majestic 1500 Sutter Street, San Francisco, CA 94109.

Contact Person: Michele L. Barnard, Scientific Review Administrator, Scientific Review Administrator Review Branch, DEA, NIDDK, National Institutes of Health, Bethesda, MD 20892, 301/594-8898.

Name of Committee: National Institute of Diabetes and Digestive and Kidney Diseases Special Emphasis Panel, ZDK1 GRB-5(M1)P.

Date: May 1-3, 2000.

Time: 7:30 pm to 12 pm.

Agenda: To review and evaluate grant applications.

Place: Penn Tower Hotel, on the University of Penn Campus, Philadelphia, PA 19104-4385.

Contact Person: Francisco O. Calvo, Deputy Chief, Review Branch, DEA, NIDDK, National Institutes of Health, Room 6AS37D, Bldg. 45, Bethesda, MD 20892, 301-594-8897.

Name of Committee: National Institute of Diabetes and Digestive and Kidney Diseases Special Emphasis Panel, ZDK1 GRB-D(M3).

Date: May 4, 2000.

Time: 1 pm to 2 pm.

Agenda: To review and evaluate grant applications.

Place: II Democracy Plaza, 6707 Democracy Boulevard, Bethesda, MD 20892, (Telephone Conference Call).

Contact Person: Ann A. Hagan, Chief, National Institute of Diabetes, Digestive and Kidney Diseases, National Institutes of Health, PHS, DHHS, Rm. 6AS37, Bldg. 45, Bethesda, MD 20892, (301) 594-8886.

(Catalogue of Federal Domestic Assistance Program Nos. 93.847, Diabetes, Endocrinology and Metabolic Research; 93.848, Digestive Diseases and Nutrition Research; 93.849, Kidney Diseases, Urology and Hematology Research, National Institutes of Health, HHS)

Dated: March 30, 2000.
LaVerne Y. Stringfield,
Director, Office of Federal Advisory Committee Policy.

[FR Doc. 00-8795 Filed 4-7-00; 8:45 am]

BILLING CODE 4140-01-M